AGENCY FOR INTERNATIONAL DEVELOPMENT

Agency Information Collection Activities; Submission to the Office of Management and Budget for Review and Approval; Comment Request; Submission for Review

AGENCY: U.S. Agency for International Development (USAID).

ACTION: 30-Day notice and request for comments.

SUMMARY: The U.S. Agency for International Development (USAID) offers the general public and other federal agencies the opportunity to comment on an existing information collection request (ICR) Document 2019-04772, Research Technical Assistance Center (RTAC) Partner Pool Application. As required by the Paperwork Reduction Act of 1995, as amended by the Clinger-Cohen Act, USAID is soliciting comments for this collection. The information collection was published in the Federal Register on March 15, 2019, allowing for a 60-day public comment period.

No comments were received regarding the Federal Register Notice. The purpose of this notice is to allow an additional 30 days for public comments.

DATES: Comments are encouraged and will be accepted until June 24, 2019. This process is conducted in accordance with 5 CFR 1320.1.

ADDRESSES: Interested persons are invited to submit written comments on the proposed information collection to: Desk Officer for USAID, Office of Information and Regulatory Affairs, Office of Management and Budget (OMB), 725 17th Street NW, Washington, DC 20503 or email address: OIRA Submission@OMB.eop.gov.

FOR FURTHER INFORMATION CONTACT: Tara Hill, Acting Division Chief, HESN 2.0 Awards Management Division (USAID/Global Development Lab), thill@usaid.gov or 202-712-0589.

SUPPLEMENTARY INFORMATION: This agency information collection previously published at 84 FR 9476.

Analysis

Agency: USAID.

Title: Certification of Identity.

OMB Number: OMB 0412-0589.

Form Number: AID Form 507-1.

Affected Public: Individuals.

Number of Respondents: 600.

Estimated Total Annual Burden Hours: 50.

Note: The 60 Day Notice references incorrect information in III. Data for the Title, OMB Number, Expiration Date, and Type of Request section.

Coy A. Lindsay,
Records and Information Management Specialist, Bureau for Management Office of Management Services, Information and Records Division.

[FR Doc. 2019-10776 Filed 5-22-19; 8:45 am]

BILLING CODE P